DEPARTMENT OF ENERGY

Federal Energy Regulatory Commission

Combined Notice of Filings #1

Take notice that the Commission received the following electric rate filings:

Docket Numbers: ER14-1173-004.

Applicants: Duke Energy Carolinas, LLC.

Description: Tariff Amendment per 35.17(b): 2nd Amendment to NCEMC NITSA SA 210 to be effective 1/1/2015.

Filed Date: 1/27/15.

Accession Number: 20150127-5051.

Comments Due: 5 p.m. ET 2/17/15.

Docket Numbers: ER14-1934-002; ER14-1935-002

Applicants: Rising Tree Wind Farm LLC, Rising Tree Wind Farm II LLC.

Description: Notice of Non-Material Change in Status of Rising Tree Wind Farm LLC, et. al.

Filed Date: 1/26/15.

Accession Number: 20150126-5395.

Comments Due: 5 p.m. ET 2/17/15.

Docket Numbers: ER15-647-001.

Applicants: Kay Wind, LLC.

Description: Tariff Amendment per 35.17(b): Kay Wind MBRA Amendment 12715 to be effective 2/16/2015.

Filed Date: 1/27/15.

Accession Number: 20150127-5119.

Comments Due: 5 p.m. ET 2/17/15.

Docket Numbers: ER15-744-000.

Applicants: Trans Bay Cable LLC.

Description: Errata to December 29, 2014 Trans Bay Cable LLC tariff filing.

Filed Date: 1/23/15.

Accession Number: 20150123-5321.

Comments Due: 5 p.m. ET 2/2/15.

Docket Numbers: ER15-908-000.

Applicants: Central Maine Power Company.

Description: Tariff Withdrawal per 35.15: Notice of Cancellation of Western Maine Renewables, LLC E&P Agreement to be effective 3/28/2015.

Filed Date: 1/26/15.

Accession Number: 20150126-5341.

Comments Due: 5 p.m. ET 2/17/15.

Docket Numbers: ER15-910-000.

Applicants: Consumers Energy Company.

Description: Application to Approve the Reclassification by the Michigan Public Service Commission of Certain Assets from Distribution to Transmission of Consumers Energy Company.

Filed Date: 1/23/15.

Accession Number: 20150123-5327.

Comments Due: 5 p.m. ET 2/13/15.

Docket Numbers: ER15-911-000.

Applicants: Southern California Edison Company.

Description: Tariff Withdrawal per 35.15: Notices of Cancellation SGIA and Distribution Service Agmt Adelanto Greenworks B to be effective 1/28/2015.

Filed Date: 1/27/15.

Accession Number: 20150127-5128.

Comments Due: 5 p.m. ET 2/17/15.

Docket Numbers: ER15-912-000.

Applicants: South Carolina Electric & Gas Company.

Description: Compliance filing per 35: SCE&G Attachment H & Schedule 1 to be effective 3/31/2010.

Filed Date: 1/27/15.

Accession Number: 20150127-5206.

Comments Due: 5 p.m. ET 2/17/15.

Docket Numbers: ER15-913-000.

Applicants: PJM Interconnection, L.L.C.

Description: Tariff Withdrawal per 35.15: Notice of Cancellation of Original Service Agreement No. 3315; Queue No. X3-007 to be effective 1/27/2015.

Filed Date: 1/27/15.

Accession Number: 20150127-5208.

Comments Due: 5 p.m. ET 2/17/15.

Docket Numbers: ER15-914-000.

Applicants: Western Antelope Blue Sky Ranch A LLC.

Description: Initial rate filing per 35.12 Western Antelope Blue Sky Ranch A LLC SFA to be effective 2/1/2015.

Filed Date: 1/27/15.

Accession Number: 20150127-5217.

Comments Due: 5 p.m. ET 2/17/15.

Docket Numbers: ER15-915-000.

Applicants: Midcontinent Independent System Operator, Inc.

Description: § 205(d) rate filing per 35.13(a)(2)(iii): 2015-01-27_SA 2193 MidAmerican-CIPCO GFA to be effective 1/28/2015.

Filed Date: 1/27/15.

Accession Number: 20150127-5225.

Comments Due: 5 p.m. ET 2/17/15.

Docket Numbers: ER15-916-000.

Applicants: Sierra Solar Greenworks LLC.

Description: Initial rate filing per 35.12 Sierra Solar Greenworks LLC SFA to be effective 2/1/2015.

Filed Date: 1/27/15.

Accession Number: 20150127-5237.

Comments Due: 5 p.m. ET 2/17/15.

Take notice that the Commission received the following land acquisition reports:

Docket Numbers: LA14-4-000.

Applicants: Blue Canyon Windpower LLC, Blue Canyon Windpower II LLC, Blue Canyon Windpower V LLC, Blue Canyon Windpower VI LLC, Cloud County Wind Farm, LLC, Sustaining Power Solutions LLC.

Description: Quarterly Land Acquisition Report of Blue Canyon Windpower LLC, et. al.

Filed Date: 1/26/15.

Accession Number: 20150126-5393.

Comments Due: 5 p.m. ET 2/17/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 27, 2015.
Nathaniel J. Davis, Sr.,
Deputy Secretary.

[FR Doc. 2015-02010 Filed 2-2-15; 8:45 am]

BILLING CODE 6717-01-P